ELECTION ASSISTANCE COMMISSION

Sunshine Act Notice

AGENCY: United States Election Assistance Commission.

ACTION: Notice of public meeting agenda.

DATE AND TIME: Thursday, September 30, 2004, 10 a.m.-12 Noon.

PLACE: U.S. Election Assistance Commission, 1225 New York Ave., NW., Suite 1100, Washington, DC 20005, (Metro Stop: Metro Center).

AGENDA: The Commission will receive updates on the following: Title II Requirements Payments, HAVA College Program; proceedings at the Technical Guidelines Development Committee Subcommittee meetings at the National Institute of Standards and Technology. The Commission will also receive presentations from panel participants in a discussion regarding the administration of provisional ballots.

PERSON TO CONTACT FOR INFORMATION: Bryan Whitener, Telephone: (202) 566-3100.

DeForest B. Soaries, Jr.,
Chairman, U.S. Election Assistance Commission.

[FR Doc. 04-21538 Filed 9-21-04; 3:37 pm]

BILLING CODE 6820-YN-M